DEPARTMENT OF JUSTICE

Notice of Lodging of Settlement Agreement Under the Comprehensive Environmental Response, Compensation, and Liability Act of 1980 (“CERCLA”)

Consistent with Section 122(d) of the Comprehensive Environmental Response, Compensation, and Liability Act of 1980, as amended (“CERCLA”) 42 U.S.C. 9622(d), and 28 CFR 50.7, notice is hereby given that on May 3, 2007, a proposed Settlement Agreement with Pursue Energy Corporation in United States v. Pursue Energy Corporation, No. 3:03-CV-00325-HTW-JCS (S.D. Miss.), was lodged with the United States District Court for the Southern District of Mississippi.

In this action, the United States sought to establish the amount of the defendant's liability, pursuant to Section 107 of CERCLA, 42 U.S.C. 9607, for the costs incurred and to be incurred by the United States in responding to the release and/or threatened release of hazardous substances at and from the Industrial Pollution Control Site in Jackson, Hinds County, Mississippi. Under the proposed Settlement Agreement, Defendant Pursue Energy Corporation a debtor in the Chapter 11 backruptcy proceeding In re: Pursue Energy Corporation, Chap. 11, Bankr. No. 3-02-05339-JEE (Bankr. S.D. Miss.), will pay $25,000 to the Hazardous Substances Superfund in reimbursement of costs incurred by the United States at the Site. The Bankruptcy Court has approved the debtor's entry into the proposed Settlement Agreement, and under the terms of the proposed Settlement agreement the United States will have an allowed general unsecured claim of $25,000. According to the debtor's debtor's confirmed bankruptcy plan of reorganization, allowed general unsecured claims are to be paid in full.

The Department of Justice will receive for a period of thirty (30) day from the date of this publication comments relating to the Settlement Agreement. Comments should be addressed to the Assistant Attorney General, Environment and Natural Resources Division, and either e-mailed pubcomment-ees.enrd@usdoj.gov or mailed to P.O. Box 7611, U.S. Department of Justice, Washington, DC 20044-7611, and should refer to United States v. Pursue Energy Corporation (Settlement Agreement with Pursue Energy Corporation, DOJ Ref. No. 90-11-3-06625/2).

The Settlement Agreement may be examined at U.S. EPA Region 4, Atlanta Federal Center, 61 Forsyth Street, SW., Atlanta, Georgia 30303 (contact Matthew Hicks, Esq (404) 562-9670). During the public comment period, the Settlement Agreement may also be examined on the following Department of Justice Web site, http://www.usdoj.gov/enrd/Consent_Decrees.html. A copy of the Settlement Agreement may also be obtained by mail from the Consent Decree Library, U.S. Department of Justice, P.O. Box 7611, Washington, DC 20044-7611 or by faxing e-mailing a request to Tonia Fleetwood (tonia.fleetwood@usdoj.gov), fax no. (202) 512-0097, phone confirmation number (202) 514-1547.

In requesting a copy from the Consent Decree Library, please refer to United States v. Pursue Energy Corporation (Settlement Agreement with Pursue Energy Corporation, DOJ Ref. No. 90-11-3-06625/2), and enclose a check in the amount of $2.00 (25 cents per page reproduction cost) payable to the U.S. Treasury or, if by e-mail or fax, forward a check in that amount to the Consent Decree Library at the states address.

Henry S. Friedman,
Assistant Section Chief, Environmental Enforcement Section, Environment and Natural Resources Division.

[FR Doc. 07-2409 Filed 5-16-07; 8:45 am]

BILLING CODE 4410-15-M